DEPARTMENT OF TRANSPORTATION

Federal Aviation Administration

Aging Transport Systems Rulemaking Advisory Committee; Meeting

AGENCY: Federal Aviation Administration (FAA), DOT.

ACTION: Notice of public meeting.

SUMMARY: This notice announces a public meeting of the FAA's Aging Transport Systems Rulemaking Advisory Committee (ATSRAC).

DATES: The meeting will be held on July 25 and 26, 2001. On July 25, the meeting time is scheduled from 8:00 a.m. to 5:00 p.m., and on July 26, it is scheduled from 8:00 a.m. to 11:30 a.m.

ADDRESSES: The meeting will be held at the Boeing Customer Services Center, MIC Conference Room, Fifth Floor, Building 11-14 South Tower, 2925 South 112th Street, Seattle, Washignton, 98168.

FOR FURTHER INFORMATION CONTACT: Shirley Stroman, Office of Rulemaking ARM-208, FAA, 800 Independence Avenue, SW, Washington, DC 20591; telephone (202) 267-7470; fax (202) 267-5075; or e-mail shirley. stroman@faa.gov.

SUPPLEMENTARY INFORMATION: Notice is hereby given of a meeting of the Aging Transport Systems Rulemaking Advisory Committee, which will be held at the Boeing Customer Services Center, MIC Conference Room, Fifth Floor, Building 11-14 South Tower, 2925 South 112th Street, Seattle, Washington, 98168.

The meeting agenda will include review of membership and status reports of task progress for the following ATSTRAC working groups:

• Wire System Certification Requirements.

• Standard Wire Practice Manual (SWPM/ESPM).

• Enhanced Training Program for Wire Systems.

• Enhanced Maintenance Criteria for Systems.

In addition, there will be an overview of the program for Enhanced Airworthiness for Airplane Systems.

Attendance is open to the public but will be limited to the availability of meeting room space. The FAA will arrange teleconferencing for individuals who make their request to participate via teleconference before July 17. Callers from outside the Washington, DC metropolitan area will be responsible for paying long distance charges. We can also provide sign and oral interpretation as well as a listening device if requests are made within 10 calendar days before the meeting. You may arrange for these services by contacting the person listed under the FOR FURTHER INFORMATION CONTACT heading of this notice.

The public may present written statements to the Committee at any time by providing 20 copies to the Committee's Executive Director or by bringing the copies to the meeting. Public statements will only be considered if time permits.

Issued in Washington, DC on July 5, 2001.
Ida M. Klepper,
Acting Director, Office of Rulemaking.

[FR Doc. 01-17348 Filed 7-6-01; 8:45 am]

BILLING CODE 4910-13-M